DEPARTMENT OF TRANSPORTATION

National Highway Traffic Safety Administration

[Docket No. NHTSA-2012-0110; Notice 1]

Ford Motor Company, Receipt of Petition for Decision of Inconsequential Noncompliance

AGENCY: National Highway Traffic Safety Administration, DOT.

ACTION: Receipt of Petition.

SUMMARY: Ford Motor Company ¹ (Ford) has determined that certain model year 2009-2012 Ford F-650 and F-750 trucks manufactured between June 26, 2008 and May 8, 2012, do not fully comply with paragraph S5.3.2(a) of Federal Motor Vehicle Safety Standard (FMVSS) No. 105, Hydraulic and Electric Brake Systems. Ford has filed an appropriate report pursuant to 49 CFR part 573, Defect and Noncompliance Responsibility and Reports (dated July 2, 2012).

¹ Ford Motor Company is a manufacturer of motor vehicles and is registered under the laws of the State of Delaware.

Pursuant to 49 U.S.C. 30118(d) and 30120(h) (see implementing rule at 49 CFR part 556), Ford has petitioned for an exemption from the notification and remedy requirements of 49 U.S.C. Chapter 301 on the basis that this noncompliance is inconsequential to motor vehicle safety.

This notice of receipt of Ford's petition is published under 49 U.S.C. 30118 and 30120 and does not represent any agency decision or other exercise of judgment concerning the merits of the petition.

Vehicles Involved: Affected are approximately 19,756 model year 2009-2012 Ford F-650 and F-750 trucks that were manufactured between June 26, 2008 and May 8, 2012.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 19,756 ² model year 2009-2012 Ford F-650 and F-750 passenger vehicles that Ford no longer controlled at the time it determined that the noncompliance existed.

² Ford's petition, which was filed under 49 CFR Part 556, requests an agency decision to exempt Ford as a vehicle manufacturer from the notification and recall responsibilities of 49 CFR Part 573 for 19,756 of the affected vehicles. However, a decision on this petition cannot relieve vehicle distributors and dealers of the prohibitions on the sale, offer for sale, introduction or delivery for introduction into interstate commerce of the noncompliant vehicles under their control after Ford notified them that the subject noncompliance existed.

Noncompliance: Ford explains that the noncompliance is that the subject vehicles do not illuminate the parking brake telltale lamp when the ignition switch is in the “on” or “start” positions as required by FMVSS No. 105.

Rule Text

Paragraph S5.3.2(a) of FMVSS No. 105 requires:

S5.3.2(a) Except as provided in paragraph (b) of this section, all indicator lamps shall be activated as a check of lamp function either when the ignition (start) switch is turned to the “on” (run) position when the engine is not running, or when the ignition (start) switch is in a position between “on” (run) and “start” that is designated by the manufacturer as a check position.

Summary of Ford's Analysis and Arguments

Ford stated its belief that although the affected vehicles do not illuminate the parking brake telltale lamp when the ignition start switch is in the “on” or “start” positions that the condition is inconsequential to motor vehicle safety for the following reasons:

(1) The parking brake telltale lamp functions as intended. Only the telltale bulb check at start-up is not illuminated.

(2) Unlike most other telltales, the park brake telltale will simultaneously illuminate when the customer applies the handbrake—essentially functioning as a bulb check. And, if the lamp does not illuminate when the handbrake is applied, the customer is able to identify the condition.

(3) If customers inadvertently operate the vehicle with the parking brake applied, the service brakes will not be affected because the design of the subject vehicles utilizes a separate, dedicated parking brake mounted on the driveshaft. Additionally, inadvertent application of the parking brake will result in poor vehicle acceleration and “drag” providing further indications that the parking brake is engaged.

(4) Instrument panel telltale bulbs are highly reliable. Engineering has reported no parking telltale bulb warranty claims for the subject vehicles.

(5) The physical position of the parking brake handle provides a readily apparent indication when the parking brake is applied. Partial park brake applications are not a concern because the handle mechanism utilizes an over-cam locking design, which assures the parking brake is either fully applied or fully released. This design precludes a parking brake from being partially applied.

(6) The subject vehicles incorporate a warning chime which activates (in addition to the parking brake telltale) when the parking brake is applied and the vehicle is driven over 4 miles-per-hour.

(7) Ford is unaware of any field or owner complaints or injuries regarding the subject noncompliance.

In summation, Ford believes that the described noncompliance of its vehicles is inconsequential to motor vehicle safety, and that its petition, to exempt it from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: February 25, 2013.

Authority: 49 U.S.C. 30118, 30120: Delegations of authority at CFR 1.95 and 501.8.

Claude H. Harris,
Director, Office of Vehicle Safety Compliance.

[FR Doc. 2013-01578 Filed 1-24-13; 8:45 am]

BILLING CODE 4910-59-P